DEPARTMENT OF HEALTH AND HUMAN SERVICES

Centers for Disease Control and Prevention

[30Day-12-11KF]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Pre-Evaluation Assessments of Nutrition, Physical Activity and Obesity Programs and Policies—New—National Center for Chronic Disease Prevention and Health Promotion (NCCDPHP), Centers for Disease Control and Prevention (CDC).

Background and Brief Description

The causes of obesity in the United States are complex and numerous, and they occur at many levels. In 2009, CDC issued guidance outlining 24 community-based strategies to encourage healthy eating and active living. Some of these strategies are being implemented by CDC awardees and other organizations. CDC plans to collect preliminary information about the effectiveness, in practice, of a selected group of the 24 recommended strategies. A systematic screening and assessment process will be used to identify programs for further evaluation.

CDC will select programs for initial assessment by reviewing completed program nomination forms. Forms can be submitted by states and jurisdictions funded through CDC's Nutrition, Physical Activity and Obesity (NPAO) cooperative agreement program, states and jurisdictions that do not currently have NPAO funding, and other organizations. Nominations may be submitted on-line or in hardcopy format. The nomination form includes a general program description, and an overview of organizational capacity. It will also include a summary of the program's potential impact, reach to target population, feasibility, transportability, acceptability to stakeholders, and sustainability. CDC anticipates reviewing an average of 51 program nomination forms per year.

CDC will also collect information through semi-structured, in-person interviews with approximately 12 key informants at each site selected for assessment. Respondents at each site will include the lead administrator, three program staff, an evaluator, and seven public and private sector partners and other stakeholders. Public and private sector partners and other stakeholders will be drawn from the state, local, and tribal government sector and the private sector. The topics to be addressed during the one- to two-hour interviews include an overview of the initiative and descriptions of stakeholder involvement, evaluation plans, and funding. The lead administrator for each program initiative will also provide the information needed to coordinate the site visit and interviews.

Results will be used to identify local achievements and promising practices in nutrition, physical activity, and obesity prevention; to provide feedback and technical assistance to each initiative's developers, implementers and managers; and to assess the evaluation readiness of promising initiatives.

Up to 23 program initiatives will be selected for pre-assessment evaluation over a two-year period. OMB approval is requested for two years. Site visits will be conducted with an average of 12 programs per year. Participation is voluntary and there are no costs to respondents other than their time. The total estimated annualized burden hours are 291.

Estimated Annualized Burden Hours
Type of respondents | Form name | Number of respondents | Number of responses per respondent | Average burden per response (in hours)
Nominator | Nomination Form | 51 | 1 | 1
Lead Administrator | Site Visit Availability Calendar | 12 | 1 | 1
| Suggested Interviewees Form | 12 | 1 | 1
| Site Visit Schedule Instructions and Template | 12 | 1 | 5
| Interview Guide for Lead Administrator | 12 | 1 | 2
Evaluator | Interview Guide for Evaluator | 12 | 1 | 1
Program Staff | Interview Guide for Program Staff | 36 | 1 | 1
Public Sector Partners (State, Local and Tribal Govt. Partners) | Interview Guide for Public and Private Sector Partners/Other Stakeholders | 48 | 1 | 1
Private Sector Partners | Interview Guide for Public and Private Sector Partners/Other Stakeholders | 36 | 1 | 1

Dated: January 12, 2012.
Kimberly Lane,
Acting Reports Clearance Officer, Centers for Disease Control and Prevention.

[FR Doc. 2012-923 Filed 1-18-12; 8:45 am]

BILLING CODE 4163-18-P